DEPARTMENT OF DEFENSE

Department of the Air Force

[Docket ID: USAF-2009-0032]

Privacy Act of 1974; System of Records

AGENCY: Department of the Air Force, DoD.

ACTION: Notice to add a System of Records.

SUMMARY: The Department of the Air Force is proposing to add a system of records to its inventory of record systems subject to the Privacy Act of 1974 (5 U.S.C. 552a), as amended.

DATES: The changes will be effective on July 16, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6172.

SUPPLEMENTARY INFORMATION: The Department of the Air Force notices for systems of records subject to the Privacy Act of 1974 (5 U.S.C. 552a), as amended, have been published in the Federal Register and are available from the address above.

The proposed systems reports, as required by 5 U.S.C. 552a(r) of the Privacy Act of 1974, as amended, will be submitted on June 3, 2009, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 4, 2009.
Morgan E. Frazier,
Alternate OSD Federal Register Liaison Officer, Department of Defense.

F010 AFMC P

SYSTEM NAME:

Logistics Module (LOGMOD).

SYSTEM LOCATION:

Department of the Air Force, Force Projection Division, 554 ELSG, 201 E Moore Drive, Bldg 856, Room 154 Maxwell AFB-Gunter Annex, AL 36114-3004, Telephone: 334-416-5771.

CATEGORIES OF INDIVIDUALS COVERED BY THE SYSTEM:

United States Air Force Active duty, Reserve, Guard, and DoD civilians.

CATEGORIES OF RECORDS IN THE SYSTEM:

Full name, Social Security Number (SSN), address and phone, Primary Air Force Specialty Code (PAFSC), Control Air Force Specialty Code (CAFSC), Deployment Availability Codes (DAV), Unit Type Codes (UTC), organizational information, reservation identification code, individual line number, equipment cargo details.

AUTHORITY FOR MAINTENANCE OF THE SYSTEM:

10 U.S.C. 8013, Secretary of the Air Force; as implemented by Air Force Instruction 10-403, Deployment Planning and Execution, and E.O. 9397 (SSN).

PURPOSE:

A deployment system used to ensure units are able to schedule and meet Air Force deployment taskings for personnel and cargo needs worldwide. Also allows for storage and daily maintenance of cargo packages.

ROUTINE USES OF RECORDS MAINTAINED IN THE SYSTEM INCLUDING CATEGORIES OF USERS AND THE PURPOSES OF SUCH USE:

In addition to those disclosures generally permitted under 5 U.S.C. 552A(b) of the Privacy Act of 1974, these records contained therein may be specifically disclosed outside the Department of Defense as a routine use pursuant to 5 U.S.C. 552a(b)(3) as follows:

The “DoD Blanket Routine Uses” published at the beginning of the Air Force's compilation of systems of records notices apply to this system.

POLICIES AND PRACTICES FOR STORING, RETRIEVING, ACCESSING, RETAINING AND DISPOSING OF RECORDS IN THE SYSTEM:

STORAGE:

Electronic storage media and paper records.

RETRIEVABILITY:

Records are retrievable by either first and/or last name, Social Security Number (SSN), Unit Type Codes (UTC) or line number of the individual.

SAFEGUARDS:

Records are accessed by person(s) responsible for servicing the record system in performance of their official duties, and by authorized personnel who are properly screened and cleared for need-to-know. All access is based upon role-based logons using the individuals Common Access Card (CAC) to login to the system. User's level of access is restricted by their role within the organization.

RETENTION AND DISPOSAL:

Deployment data is actively maintained for a period of time that is determined by the Installation Deployment Office at each base and then destroyed when no longer needed by shredding, degaussing, erasing or purging.

SYSTEM MANAGER(S) AND ADDRESS:

Force Projection Division, 554th Electronic Systems Group, 201 East Moore Drive, Building 856, Room 154, Maxwell AFB, Gunter Annex, Alabama 36114-3004.

NOTIFICATION PROCEDURE:

Individuals seeking to determine whether this system of records contains information on themselves should address inquiries to 554th Electronic Systems Group, 201 East Moore Drive, Building 856, Room 154, Maxwell AFB, Gunter Annex, Alabama 36114-3004.

Written requests should contain individual's name, Social Security Number (SSN), reservation identification code, and movement channel.

RECORD ACCESS PROCEDURES:

Individuals seeking to determine whether this system of records contains information on themselves should address inquiries to 554th Electronic Systems Group, 201 East Moore Drive, Building 856, Room 154, Maxwell AFB, Gunter Annex, Alabama 36114-3004.

Written requests should contain individual's name, Social Security Number (SSN), reservation identification code, and movement channel.

CONTESTING RECORD PROCEDURES:

The Air Force rules for access to records, and for contesting and appealing initial agency determinations by the individual concerned are published in Air Force Instruction 33-332, Privacy Act Program, 32 CFR Part 806b, or may be obtained from the system manager.

RECORD SOURCE CATEGORIES:

Deliberate and Crisis Action Planning and Execution Segments (DCAPES), and cargo records created by users of the system.

EXEMPTIONS CLAIMED FOR THE SYSTEM:

None.

[FR Doc. E9-14125 Filed 6-15-09; 8:45 am]

BILLING CODE 5001-06-P